DEPARTMENT OF AGRICULTURE

Foreign Agricultural Service

Trade Adjustment Assistance for Farmers

AGENCY: Foreign Agricultural Service, USDA.

ACTION: Notice.

The Administrator of the Foreign Agricultural Service (FAS) today accepted and began a review of a petition for trade adjustment assistance filed under the Fiscal Year 2011 program by the Wild Blueberry Commission of Maine on behalf of blueberry producers in Maine. The Administrator will determine within 40 days whether increasing imports of blueberries contributed importantly to a greater than 15-percent decrease in the average annual price of blueberries compared to the average of the three preceding marketing years. If a determination is affirmative, producers who produce and market blueberries in Maine will be eligible to apply to the Farm Service Agency for free technical assistance and cash benefits.

FOR FURTHER INFORMATION CONTACT: Trade Adjustment Assistance for Farmers Program Staff, FAS, USDA by phone: (202) 720-0638 or (202) 690-0633; or by e-mail at: tradeadjustment@fas.usda.gov; or visit the TAA for Farmers' Web site: http://www.fas.usda.gov/itp/taa.

Dated: August 3, 2010.
Suzanne Hale,
Acting Administrator, Foreign Agricultural Service.

[FR Doc. 2010-20097 Filed 8-12-10; 8:45 am]

BILLING CODE 3410-10-P